DEPARTMENT OF AGRICULTURE

Submission for OMB Review; Comment Request

June 3, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: MyPyramid Tracker Information Collection for Registration, Login, and Food Intake and Physical Activity Assessment Information.

OMB Control Number: 0584-0535.

Summary of Collection: The U.S. Department of Agriculture (USDA), Center for Nutrition Policy and Promotion (CNPP) supports and promotes the health of all Americans by producing and promoting up-to-date science-based dietary guidance, including the Dietary Guidelines for Americans 2005 and the USDA's MyPyramid Food Guidance System. CNPP has two interactive tools, MyPyramid Menu Planner and MyPyramid Tracker, to provide consumers with personalized nutrition and physical activity assessments based on the current Dietary Guidelines for Americans. The authority to collect the information can be found under Subtitle D of the National Agriculture Research, Extension, and Teaching Policy Act of 1977 (7 U.S.C. 3171-3175) and 7 CFR 2.19(a)(3).

Need and Use of the Information: MyPyramid Menu Planner and MyPyramid Tracker are tools that can assist the public in making diet and physical activity choices. Users voluntarily go to the MyPyramid.gov web site to submit information. The information obtained from users is stored in a user account, which is maintained by USDA information technology (IT) staff. If the information is not collected, users will not be able to assess individual food intake and physical activity status.

Description of Respondents: Individual or Households.

Number of Respondents: 3,310,722.

Frequency of Responses: Reporting: Monthly.

Total Burden Hours: 6,843,466.

Ruth Brown,
Departmental Information Collection Clearance Officer.

[FR Doc. E9-13377 Filed 6-8-09; 8:45 am]

BILLING CODE 3410-30-P